DEPARTMENT OF ENERGY

Federal Energy Regulatory Commission

[Project No. 15003-000; Project No. 10934-000]

Notice of Intent To File License Application, Filing of Pre-Application Document, and Approving Use of the Traditional Licensing Process: New Hampshire Renewable Resources, LLC

a. Type of Filing: Notice of Intent to File License Application and Request to Use the Traditional Licensing Process.

b. Project No.: 15003-000.

c. Date Filed: August 6, 2019.

d. Submitted By: New Hampshire Renewable Resources, LLC (New Hampshire Renewable).

e. Name of Project: Sugar River II Project.

f. Location: On the Sugar River, in Sullivan County, New Hampshire. No federal lands are occupied by the project works or located within the project boundary.

g. Filed Pursuant to: 18 CFR 5.3 and 5.5 of the Commission's regulations.

h. Potential Applicant Contact: Ian Clark, New Hampshire Renewable Resources, LLC, 65 Ellen Ave., Mahopac, NY 10541; Phone at 914-297-7645, or email at ianc@dichotomycapital.com.

i. FERC Contact: Michael Watts at (202) 502-6123; or michael.watts@ferc.gov.

j. The current license for the Sugar River II Project is held by Sugar River Hydro II, LLC (Sugar River Hydro) under Project No. 10934. On April 30, 2019, Sugar River Hydro filed a letter stating that it is not filing an application to relicense the project. On May 8, 2019, the Commission, pursuant to 18 CFR 16.25(a), issued a notice soliciting potential new applicants for the project, which provided until August 6, 2019 for potential applicants to submit a pre-application document (PAD) and notice of intent (NOI), and until February 6, 2021 to submit a license application. In response to the solicitation notice, New Hampshire Renewable filed a PAD and NOI for the Sugar River II Project, pursuant to 18 CFR 5.5 and 5.6 of the Commission's regulations. The licensing proceeding is commencing under Project No. 15003.

k. New Hampshire Renewable filed its request to use the Traditional Licensing Process (TLP) on August 6, 2019, and provided public notice of the request on August 20, 2019. In a letter dated October 2, 2019, the Director of the Division of Hydropower Licensing approved New Hampshire Renewable's request to use the TLP.

l. With this notice, we are initiating informal consultation with the U.S. Fish and Wildlife Service and NOAA Fisheries under section 7 of the Endangered Species Act and the joint agency regulations thereunder at 50 CFR part 402; and NOAA Fisheries under section 305(b) of the Magnuson-Stevens Fishery Conservation and Management Act and implementing regulations at 50 CFR 600.920. We are also initiating consultation with the New Hampshire State Historic Preservation Officer, as required by section 106 of the National Historic Preservation Act, and the implementing regulations of the Advisory Council on Historic Preservation at 36 CFR 800.2.

m. With this notice, we are designating New Hampshire Renewable as the Commission's non-federal representative for carrying out informal consultation pursuant to section 7 of the Endangered Species Act; and consultation pursuant to section 106 of the National Historic Preservation Act.

n. New Hampshire Renewable filed a PAD, including a proposed process plan and schedule with the Commission, pursuant to 18 CFR 5.6 of the Commission's regulations.

o. A copy of the PAD is available for review at the Commission in the Public Reference Room or may be viewed on the Commission's website (http://www.ferc.gov), using the “eLibrary” link. Enter the docket number P-15003 to access the document. For assistance, contact FERC Online Support at FERConlineSupport@ferc.gov, (866) 208-3676 (toll free), or (202) 502-8659 (TTY). A copy is also available for inspection and reproduction at 169 Sunapee Street, Newport, NH 03773.

p. New Hampshire Renewable states its unequivocal intent to submit an application for a subsequent license for Project No. 15003-000. Pursuant to 18 CFR 16.20 and 16.25, an application for a subsequent license must be filed with the Commission at least 18 months from the date of filing of the NOI, i.e., by February 6, 2021.

q. Register online at http://www.ferc.gov/docs-filing/esubscription.asp to be notified via email of new filings and issuances related to this or other pending projects. For assistance, contact FERC Online Support.

Dated: October 2, 2019.
Kimberly D. Bose,
Secretary.

[FR Doc. 2019-21970 Filed 10-7-19; 8:45 am]

BILLING CODE 6717-01-P